DEPARTMENT OF ENERGY

Federal Energy Regulatory Commission

Combined Notice of Filings #2

Take notice that the Commission received the following exempt wholesale generator filings:

Docket Numbers: EG16-140-000.

Applicants: Astra Wind LLC.

Description: Self-Certification of EG of Astra Wind LLC.

Filed Date: 8/22/16.

Accession Number: 20160822-5275.

Comments Due: 5 p.m. ET 9/12/16.

Take notice that the Commission received the following electric rate filings:

Docket Numbers: ER16-2453-000.

Applicants: Brady Interconnection, LLC.

Description: Baseline eTariff Filing: Brady Interconnection, LLC Application for market-Based Rates to be effective 10/18/2016.

Filed Date: 8/19/16.

Accession Number: 20160819-5300.

Comments Due: 5 p.m. ET 9/9/16.

Take notice that the Commission received the following electric reliability filings:

Docket Numbers: RR16-6-000.

Applicants: North American Electric Reliability Corporation.

Description: Request of the North American Electric Reliability Corporation for Acceptance of its 2017 Business Plan and Budget.

Filed Date: 8/23/16.

Accession Number: 20160823-5166.

Comments Due: 5 p.m. ET 9/13/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 24, 2016.
Kimberly D. Bose,
Secretary.

[FR Doc. 2016-20751 Filed 8-29-16; 8:45 am]

BILLING CODE 6717-01-P